NATIONAL AERONAUTICS AND SPACE ADMINISTRATION

[Notice (15-021)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: April 1, 2015.

FOR FURTHER INFORMATION CONTACT: Mark W. Homer, Patent Counsel, NASA Management Office—JPL, 4800 Oak Grove Drive, Mail Stop 180-200, Pasadena, CA 91109; telephone (818) 354-7770.

NASA Case No.: NPO-49116-1-CU: Heliostat with Stowing and Wind Survival Capabilities;

NPO-49439-1: Deep Space Positioning System;

DRC-009-008DIV: Improved Digital Map Rending Method;

DRC-013-019: System and Method for Monitoring the Deflection and Slope of a Three-Dimensional Structure such as a Wing using Strain Measurements at Discrete Locations;

NASA Case No.: DRC-013-020: Wavelet-Based Processing for Fiber Optic Sensing Systems;

DRC-014-003: Highly Elastic Strain Gage for Low Modulus Materials;

DRC-012-033: Improved Ground Collision Avoidance System (iGCAS).

Sumara M. Thompson-King,
General Counsel.

[FR Doc. 2015-07455 Filed 3-31-15; 8:45 am]

BILLING CODE 7510-13-P